DEPARTMENT OF TRANSPORTATION

Federal Aviation Administration

14 CFR Part 97

[Docket No. 31011; Amdt. No. 3638]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective April 13, 2015. The compliance date for each SIAP, associated Takeoff Minimums, and ODP is specified in the amendatory provisions.

The incorporation by reference of certain publications listed in the regulations is approved by the Director of the Federal Register as of April 13, 2015.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420) Flight Technologies and Procedures Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on March 27, 2015.
John Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
30-Apr-15 | TX | Houston | George Bush Intercontinental/Houston | 5/7718 | 02/27/15 | This NOTAM, published in TL 15-09, is hereby rescinded in its entirety.
30-Apr-15 | IA | Decorah | Decorah Muni | 4/0112 | 03/17/15 | RNAV (GPS) RWY 11, Orig-A.
30-Apr-15 | ND | Dickinson | Dickinson—Theodore Roosevelt Rgnl | 4/0517 | 03/17/15 | RNAV (GPS) RWY 25, Orig.
30-Apr-15 | MN | Duluth | Duluth Intl | 4/0964 | 03/17/15 | ILS OR LOC RWY 27, Amdt 10.
30-Apr-15 | MN | Duluth | Duluth Intl | 4/0967 | 03/17/15 | COPTER ILS OR LOC RWY 27, Amdt 2.
30-Apr-15 | MN | Duluth | Duluth Intl | 4/0969 | 03/17/15 | VOR OR TACAN RWY 3, Amdt 21.
30-Apr-15 | MN | Duluth | Duluth Intl | 4/0971 | 03/17/15 | VOR/DME OR TACAN RWY 21, Amdt 15.
30-Apr-15 | FL | Tallahassee | Tallahassee Rgnl | 4/1324 | 03/16/15 | VOR/DME OR TACAN RWY 36, Amdt 1.
30-Apr-15 | FL | Tallahassee | Tallahassee Rgnl | 4/1325 | 03/16/15 | ILS OR LOC/DME RWY 36, Amdt 25.
30-Apr-15 | FL | Tallahassee | Tallahassee Rgnl | 4/1326 | 03/16/15 | RNAV (GPS) RWY 18, Amdt 1.
30-Apr-15 | FL | Tallahassee | Tallahassee Rgnl | 4/1327 | 03/16/15 | RNAV (GPS) RWY 36, Amdt 1.
30-Apr-15 | FL | Tallahassee | Tallahassee Rgnl | 4/1328 | 03/16/15 | VOR RWY 18, Amdt 12.
30-Apr-15 | OH | Dayton | James M Cox Dayton Intl | 4/9763 | 03/17/15 | RNAV (RNP) Y RWY 6L, Orig.
30-Apr-15 | OH | Dayton | James M Cox Dayton Intl | 4/9819 | 03/17/15 | RNAV (RNP) Y RWY 24R, Orig.
30-Apr-15 | MS | Tupelo | Tupelo Rgnl | 5/0003 | 03/17/15 | NDB RWY 36, Amdt 5.
30-Apr-15 | KY | Murray | Kyle-Oakley Field | 5/0031 | 03/12/15 | LOC RWY 23, Amdt 2.
30-Apr-15 | NE | O'Neill | The O'Neill Muni-John L Baker Field | 5/0039 | 03/12/15 | RNAV (GPS) RWY 13, Amdt 1A.
30-Apr-15 | NE | O'Neill | The O'Neill Muni-John L Baker Field | 5/0040 | 03/12/15 | RNAV (GPS) RWY 31, Amdt 1A.
30-Apr-15 | NE | O'Neill | The O'Neill Muni-John L Baker Field | 5/0041 | 03/12/15 | VOR RWY 13, Amdt 5C.
30-Apr-15 | NE | O'Neill | The O'Neill Muni-John L Baker Field | 5/0042 | 03/12/15 | VOR RWY 31, Amdt 1B.
30-Apr-15 | TX | Houston | George Bush Intercontinental/Houston | 5/0170 | 03/12/15 | ILS OR LOC RWY 26L, ILS RWY 26L (SA CAT I), ILS RWY 26L (CAT II & III), Amdt 21B.
30-Apr-15 | IL | Champaign/Urbana | University Of Illinois-Willard | 5/0172 | 03/12/15 | RNAV (GPS) RWY 32R, Orig-A.
30-Apr-15 | GA | Donalsonville | Donalsonville Muni | 5/0261 | 03/12/15 | Takeoff Minimums and (Obstacle) DP, Orig.
30-Apr-15 | GA | Donalsonville | Donalsonville Muni | 5/0262 | 03/12/15 | VOR/DME A, Amdt 3.
30-Apr-15 | IL | Cahokia/St Louis | St Louis Downtown | 5/0302 | 03/12/15 | RNAV (GPS) RWY 30L, Orig-A.
30-Apr-15 | MI | Cheboygan | Cheboygan County | 5/0357 | 03/12/15 | VOR RWY 10, Amdt 9A.
30-Apr-15 | MN | Minneapolis | Minneapolis-St Paul Intl/Wold-Chamberlain | 5/0820 | 03/12/15 | ILS OR LOC RWY 12L, ILS RWY 12L (SA CAT I), ILS RWY 12L (CAT II & III), Amdt 10.
30-Apr-15 | MN | Minneapolis | Minneapolis-St Paul Intl/Wold-Chamberlain | 5/0826 | 03/12/15 | RNAV (GPS) Z RWY 12R, Amdt 3.
30-Apr-15 | MN | Minneapolis | Minneapolis-St Paul Intl/Wold-Chamberlain | 5/0828 | 03/12/15 | ILS OR LOC RWY 12R, ILS RWY 12R (SA CAT I), ILS RWY 12 R (CAT II & III), Amdt 11.
30-Apr-15 | MN | Minneapolis | Minneapolis-St Paul Intl/Wold-Chamberlain | 5/0829 | 03/12/15 | ILS V RWY 30R (CONVERGING), Amdt 3.
30-Apr-15 | MN | Minneapolis | Minneapolis-St Paul Intl/Wold-Chamberlain | 5/1099 | 03/12/15 | LOC RWY 4, Amdt 1A.
30-Apr-15 | MN | Minneapolis | Minneapolis-St Paul Intl/Wold-Chamberlain | 5/1100 | 03/12/15 | RNAV (GPS) RWY 22, Amdt 1A.
30-Apr-15 | MN | Minneapolis | Minneapolis-St Paul Intl/Wold-Chamberlain | 5/1101 | 03/12/15 | RNAV (GPS) RWY 4, Amdt 2A.
30-Apr-15 | MN | Minneapolis | Minneapolis-St Paul Intl/Wold-Chamberlain | 5/1104 | 03/12/15 | LOC RWY 22, Amdt 1A.
30-Apr-15 | MN | Minneapolis | Minneapolis-St Paul Intl/Wold-Chamberlain | 5/1105 | 03/12/15 | LOC RWY 17, Amdt 1A.
30-Apr-15 | AK | Deadhorse | Deadhorse | 5/1136 | 03/17/15 | RNAV (RNP) Z RWY 23, Orig-B.
30-Apr-15 | AK | Deadhorse | Deadhorse | 5/1218 | 03/17/15 | RNAV (RNP) Z RWY 5, Orig-B.
30-Apr-15 | GA | Fitzgerald | Fitzgerald Muni | 5/1448 | 03/12/15 | RNAV (GPS) RWY 2, Amdt 1.
30-Apr-15 | TN | Somerville | Fayette County | 5/1454 | 03/12/15 | RNAV (GPS) RWY 19, Amdt 2A.
30-Apr-15 | TN | Somerville | Fayette County | 5/1455 | 03/12/15 | RNAV (GPS) RWY 1, Orig-A.
30-Apr-15 | TN | Somerville | Fayette County | 5/1456 | 03/12/15 | NDB RWY 19, Amdt 1B.
30-Apr-15 | KY | Greenville | Muhlenberg County | 5/1460 | 03/12/15 | RNAV (GPS) RWY 24, Amdt 1A.
30-Apr-15 | KY | Greenville | Muhlenberg County | 5/1461 | 03/12/15 | VOR/DME A, Amdt 5A.
30-Apr-15 | KY | Greenville | Muhlenberg County | 5/1462 | 03/12/15 | RNAV (GPS) RWY 6, Orig.
30-Apr-15 | FL | Marianna | Marianna Muni | 5/1463 | 03/12/15 | NDB-C, Amdt 4A.
30-Apr-15 | FL | Marianna | Marianna Muni | 5/1464 | 03/12/15 | RNAV (GPS) RWY 18, Orig.
30-Apr-15 | FL | Marianna | Marianna Muni | 5/1465 | 03/12/15 | VOR-A, Amdt 12.
30-Apr-15 | FL | Marianna | Marianna Muni | 5/1466 | 03/12/15 | VOR-B, Amdt 5.
30-Apr-15 | NY | Farmingdale | Republic | 5/1479 | 03/12/15 | RNAV (GPS) Y RWY 14, Amdt 2C.
30-Apr-15 | NC | Elizabeth City | Elizabeth City CG Air Station/Rgnl | 5/2546 | 03/12/15 | ILS OR LOC RWY 10, Amdt 1A.
30-Apr-15 | IL | Champaign/Urbana | University Of Illinois-Willard | 5/3060 | 03/12/15 | RNAV (GPS) RWY 36, Orig-A.
30-Apr-15 | TX | Houston | Ellington | 5/3252 | 03/17/15 | RNAV (GPS) RWY 4, Amdt 1A.
30-Apr-15 | TX | Houston | Ellington | 5/3285 | 03/17/15 | ILS OR LOC RWY 22, Amdt 3E.
30-Apr-15 | MA | Boston | General Edward Lawrence Logan Intl | 5/3680 | 03/17/15 | ILS OR LOC RWY 33L, ILS RWY 33L (SA CAT I), ILS RWY 33L (CAT II & III), Amdt 5B.
30-Apr-15 | MA | Boston | General Edward Lawrence Logan Intl | 5/3681 | 03/18/15 | ILS OR LOC RWY 4R, ILS RWY 4R (SA CAT I), ILS RWY 4R (CAT II & III), Amdt 10A.
30-Apr-15 | MA | Boston | General Edward Lawrence Logan Intl | 5/3683 | 03/17/15 | ILS OR LOC RWY 22L, Amdt 8A.
30-Apr-15 | MA | Boston | General Edward Lawrence Logan Intl | 5/3684 | 03/17/15 | ILS OR LOC RWY 27, Amdt 2B.
30-Apr-15 | MA | Boston | General Edward Lawrence Logan Intl | 5/3685 | 03/17/15 | ILS OR LOC/DME RWY 15R, Amdt 1D.
30-Apr-15 | MA | Boston | General Edward Lawrence Logan Intl | 5/3686 | 03/17/15 | RNAV (GPS) RWY 4R, Amdt 1A.
30-Apr-15 | MA | Boston | General Edward Lawrence Logan Intl | 5/3687 | 03/17/15 | RNAV (GPS) RWY 15R, Amdt 1B.
30-Apr-15 | MA | Boston | General Edward Lawrence Logan Intl | 5/3688 | 03/17/15 | RNAV (GPS) RWY 22L, Amdt 1A.
30-Apr-15 | MA | Boston | General Edward Lawrence Logan Intl | 5/3689 | 03/17/15 | RNAV (GPS) RWY 27, Orig-C.
30-Apr-15 | MA | Boston | General Edward Lawrence Logan Intl | 5/3690 | 03/17/15 | RNAV (GPS) RWY 32, Orig-E.
30-Apr-15 | MA | Boston | General Edward Lawrence Logan Intl | 5/3691 | 03/17/15 | RNAV (GPS) RWY 33L, Amdt 2A.
30-Apr-15 | MA | Boston | General Edward Lawrence Logan Intl | 5/3692 | 03/17/15 | VOR/DME RWY 27, Amdt 2D.
30-Apr-15 | MA | Boston | General Edward Lawrence Logan Intl | 5/3693 | 03/17/15 | VOR/DME RWY 33L, Amdt 2E.
30-Apr-15 | MA | Boston | General Edward Lawrence Logan Intl | 5/3694 | 03/17/15 | VOR/DME-A, Amdt 1A.
30-Apr-15 | IL | Chicago/Prospect Heights/Wheeling | Chicago Executive | 5/3702 | 03/17/15 | VOR RWY 16, Orig-D.
30-Apr-15 | IL | Chicago/Prospect Heights/Wheeling | Chicago Executive | 5/3703 | 03/17/15 | RNAV (GPS) RWY 16, Amdt 1C.
30-Apr-15 | IL | Chicago/Prospect Heights/Wheeling | Chicago Executive | 5/3704 | 03/17/15 | ILS OR LOC RWY 16, Amdt 2B.
30-Apr-15 | MS | Tupelo | Tupelo Rgnl | 5/3740 | 03/17/15 | VOR/DME RWY 18, Amdt 1.
30-Apr-15 | IL | Sparta | Sparta Community-Hunter Field | 5/3776 | 03/17/15 | RNAV (GPS) RWY 18, Amdt 1A.
30-Apr-15 | IL | Sparta | Sparta Community-Hunter Field | 5/3777 | 03/17/15 | RNAV (GPS) RWY 36, Orig.
30-Apr-15 | GA | Winder | Barrow County | 5/3880 | 03/16/15 | VOR/DME-A, Amdt 9D.
30-Apr-15 | GA | Winder | Barrow County | 5/3881 | 03/16/15 | NDB RWY 31, Amdt 9A.
30-Apr-15 | GA | Winder | Barrow County | 5/3882 | 03/16/15 | RNAV (GPS) RWY 31, Amdt 1A.
30-Apr-15 | GA | Winder | Barrow County | 5/3883 | 03/16/15 | ILS OR LOC RWY 31, Orig-B.
30-Apr-15 | GA | Winder | Barrow County | 5/3884 | 03/16/15 | RNAV (GPS) RWY 13, Amdt 1.
30-Apr-15 | GA | Winder | Barrow County | 5/3885 | 03/16/15 | RNAV (GPS) RWY 23, Orig.
30-Apr-15 | AL | Montgomery | Montgomery Rgnl (Dannelly Field) | 5/3898 | 03/16/15 | ILS Y OR LOC RWY 28, Amdt 11A.
30-Apr-15 | AL | Montgomery | Montgomery Rgnl (Dannelly Field) | 5/3899 | 03/16/15 | ILS OR LOC RWY 10, Amdt 23H.
30-Apr-15 | MA | Vineyard Haven | Martha's Vineyard | 5/3912 | 03/16/15 | ILS OR LOC RWY 24, Amdt 3.
30-Apr-15 | MA | Vineyard Haven | Martha's Vineyard | 5/3913 | 03/16/15 | RNAV (GPS) RWY 33, Orig.
30-Apr-15 | MA | Vineyard Haven | Martha's Vineyard | 5/3914 | 03/16/15 | VOR RWY 24, Amdt 2.
30-Apr-15 | MA | Vineyard Haven | Martha's Vineyard | 5/3916 | 03/16/15 | VOR RWY 6, Amdt 2.
30-Apr-15 | MA | Vineyard Haven | Martha's Vineyard | 5/3918 | 03/16/15 | RNAV (GPS) RWY 24, Amdt 2B.
30-Apr-15 | MA | Vineyard Haven | Martha's Vineyard | 5/3924 | 03/16/15 | RNAV (GPS) RWY 15, Orig-A.
30-Apr-15 | MA | Vineyard Haven | Martha's Vineyard | 5/3925 | 03/16/15 | RNAV (GPS) RWY 6, Amdt 1.
30-Apr-15 | VA | Bumpass | Lake Anna | 5/3929 | 03/16/15 | RNAV (GPS) RWY 8, Orig.
30-Apr-15 | VA | Bumpass | Lake Anna | 5/3931 | 03/16/15 | RNAV (GPS) RWY 26, Orig.
30-Apr-15 | AL | Fort Payne | Isbell Field | 5/3934 | 03/16/15 | RNAV (GPS) RWY 4, Orig.
30-Apr-15 | AL | Fort Payne | Isbell Field | 5/3935 | 03/16/15 | RNAV (GPS) Y RWY 22, Orig.
30-Apr-15 | AL | Fort Payne | Isbell Field | 5/3936 | 03/16/15 | RNAV (GPS) Z RWY 22, Orig.
30-Apr-15 | AL | Fort Payne | Isbell Field | 5/3937 | 03/16/15 | NDB-A, Amdt 1.
30-Apr-15 | GA | Fitzgerald | Fitzgerald Muni | 5/3938 | 03/16/15 | LOC/NDB RWY 2, Amdt 1.
30-Apr-15 | NY | Saratoga Springs | Saratoga County | 5/3940 | 03/17/15 | VOR/DME-A, Amdt 1A.
30-Apr-15 | NY | Saratoga Springs | Saratoga County | 5/3941 | 03/17/15 | RNAV (GPS) RWY 23, Amdt 1A.
30-Apr-15 | NY | Ithaca | Ithaca Tompkins Rgnl | 5/3973 | 03/18/15 | RNAV (GPS) Y RWY 14, Orig.
30-Apr-15 | NY | Ithaca | Ithaca Tompkins Rgnl | 5/3974 | 03/18/15 | VOR RWY 14, Amdt 14.
30-Apr-15 | NY | Ithaca | Ithaca Tompkins Rgnl | 5/3975 | 03/18/15 | RNAV (GPS) RWY 32, Orig.
30-Apr-15 | NY | Ithaca | Ithaca Tompkins Rgnl | 5/3976 | 03/18/15 | VOR RWY 32, Amdt 2.
30-Apr-15 | NY | Ithaca | Ithaca Tompkins Rgnl | 5/3977 | 03/18/15 | ILS OR LOC RWY 32, Amdt 6.
30-Apr-15 | IL | De Kalb | De Kalb Taylor Muni | 5/4154 | 03/17/15 | Takeoff Minimums and (Obstacle) DP, Amdt 4.
30-Apr-15 | AK | Minchumina | Minchumina | 5/6388 | 03/24/15 | RNAV (GPS) RWY 3, Orig-B.
30-Apr-15 | AK | Minchumina | Minchumina | 5/6392 | 03/24/15 | RNAV (GPS) RWY 21, Orig-B.
30-Apr-15 | NE | Broken Bow | Broken Bow Muni/Keith Glaze Fld | 5/7325 | 03/04/15 | VOR/DME RWY 32, Orig-B.
30-Apr-15 | NE | Broken Bow | Broken Bow Muni/Keith Glaze Fld | 5/7326 | 03/04/15 | VOR RWY 14, Amdt 4B.
30-Apr-15 | IN | Bloomington | Monroe County | 5/7722 | 03/04/15 | RNAV (GPS) RWY 6, Orig-A.
30-Apr-15 | NY | Farmingdale | Republic | 5/8164 | 03/12/15 | RNAV (GPS) RWY 1, Amdt 2A.
30-Apr-15 | NY | Farmingdale | Republic | 5/8165 | 03/12/15 | RNAV (GPS) RWY 19, Amdt 2B.
30-Apr-15 | NY | Farmingdale | Republic | 5/8169 | 03/12/15 | RNAV (GPS) RWY 32, Orig.
30-Apr-15 | NY | Farmingdale | Republic | 5/8170 | 03/12/15 | NDB RWY 1, Amdt 14A.
30-Apr-15 | NY | Farmingdale | Republic | 5/8171 | 03/12/15 | ILS OR LOC RWY14, Amdt 8D.
30-Apr-15 | IN | Bedford | Virgil I Grissom Muni | 5/9652 | 03/04/15 | RNAV (GPS) RWY 31, Amdt 1.
30-Apr-15 | IN | Bedford | Virgil I Grissom Muni | 5/9653 | 03/04/15 | RNAV (GPS) RWY 13, Orig.
30-Apr-15 | TX | Houston | Ellington | 5/9655 | 03/17/15 | TACAN RWY 4, Orig.
30-Apr-15 | TX | Houston | Ellington | 5/9673 | 03/17/15 | TACAN RWY 22, Orig-A.
30-Apr-15 | IN | French Lick | French Lick Muni | 5/9708 | 03/05/15 | RNAV (GPS) RWY 8, Amdt 1.
30-Apr-15 | IN | French Lick | French Lick Muni | 5/9709 | 03/05/15 | RNAV (GPS) 26, Orig.
30-Apr-15 | IL | Moline | Quad City Intl | 5/9716 | 03/05/15 | ILS OR LOC RWY 9, Amdt 31.

[FR Doc. 2015-08116 Filed 4-10-15; 8:45 am]

BILLING CODE 4910-13-P